DEPARTMENT OF COMMERCE

International Trade Administration

[C-357-819]

Ni-Resist Piston Inserts from Argentina: Final Affirmative Countervailing Duty Determination

AGENCY: Import Administration, International Trade Administration, Department of Commerce.

SUMMARY: The Department of Commerce (the Department) determines that countervailable subsidies are being provided to a producer and exporter of Ni-resist piston inserts from Argentina. For information on the estimated subsidy rate, see the “Suspension of Liquidation” section of this notice.

EFFECTIVE DATE: September 18, 2009.

FOR FURTHER INFORMATION CONTACT: Kristen Johnson, AD/CVD Operations, Office 3, Import Administration, International Trade Administration, U.S. Department of Commerce, Room 4014, 14th Street and Constitution Avenue, NW, Washington, DC 20230; telephone: (202) 482-4793.

SUPPLEMENTARY INFORMATION:

Background

This investigation covers 22 programs. Clorindo Appo SRL (Clorindo) is the only producer/exporter of subject merchandise from Argentina under investigation. The petitioner is Korff Holdings, LLC d/b/a Quaker City Castings.

Period of Investigation

The period of investigation (the POI) for which we are measuring subsidies is January 1, 2008, through December 31, 2008, which corresponds to Argentina's most recently completed fiscal year. See 19 CFR 351.204(b)(2).

Case History

The following events have occurred since the preliminary determination notice was published in the Federal Register on July 6, 2009. See Ni-Resist Piston Inserts From Argentina: Preliminary Affirmative Countervailing Duty Determination, 74 FR 31914 (July 6, 2009) (Preliminary Determination).

From July 23 through July 29, 2009, we conducted verification of the questionnaire responses submitted by the Government of Argentina (GOA), including the provincial government of Santa Fe, and Clorindo. We issued the verification reports on August 13, 2009.¹

¹ The public version of the verification reports and all public documents for this investigation are on file in the Central Records Unit, room 1117 in the main building of the Commerce Department.

On August 25 and 27, 2009, we received a case brief from Clorindo and the GOA, respectively.² On August 31, 2009, we received a rebuttal brief from Clorindo. On September 2, 2009, we received a case brief from the petitioner.³ On September 9, 2009, we received from the GOA a rebuttal brief to the petitioner's case brief. We did not hold a hearing in this investigation, as one was not requested.

² The GOA submitted a case brief on August 25, 2009; however, the case brief was rejected because it contained untimely new factual information. See Letter to Roberto Salafia, Minister, Economic and Commercial Section, Embassy of Argentina from Melissa G. Skinner, Director, Operations Office 3, regarding Rejection of Case Brief with Untimely Filed Information (August 26, 2009), which stated that the GOA could resubmit the case brief by August 28, 2009 provided the untimely information was removed.

³ The petitioner submitted a case brief on August 20, 2009; however, the case brief was rejected because it contained an untimely new subsidy allegation and untimely new factual information. See Letter to Geoffrey Korff of the Korff Law Firm from Melissa G. Skinner, Director, Operations Office 3 (August 25, 2009), which stated that petitioner could resubmit the case brief, provided the untimely information was removed. On September 1, 2009, the Department granted to the petitioner an extension of time to resubmit the case brief. See Letter to Geoffrey Korff of the Korff Law Firm from Melissa G. Skinner, Director, Operations Office 3 (September 1, 2009).

Scope of Investigation

The scope of this investigation includes all Ni-resist piston inserts regardless of size, thickness, weight, or outside diameter. Ni-resist piston inserts may also be called other names including, but not limited to, “Ring Carriers,” or “Alfin Inserts.” Ni-resist piston inserts are alloyed cast iron rings, with or without a sheet metal cooling channel pressed and welded into the interior of the insert. Ni-resist piston inserts are composed of the material known as Ni-resist, of the chemical composition: 13.5% - 17.5% Ni (nickel), 5.5% - 8.0% Cu (copper), 0.8% - 2.5% Cr (chromium), 0.5% - 1.5% Mn (manganese), 1.0% - 3.0% Si (silicon), 2.4% - 3.0% C (carbon). The cast iron composition is produced primarily to the material specifications of the American Society for Testing and Materials (ASTM), ASTM A-436 grade 1.

The scope of this investigation does not include piston rings nor any other product manufactured using the Ni-resist material. The subject imports are properly classified under subheading 8409.99.91.90 of the Harmonized Tariff Schedule of the United States (HTSUS), but have been imported under HTSUS 7326.90. The HTSUS subheadings are provided for convenience and customs purposes. The written description is dispositive of the scope of this investigation.

Injury Test

Because Argentina is a “Subsidies Agreement Country” within the meaning of section 701(b) of the Act, the International Trade Commission (the ITC) is required to determine whether imports of the subject merchandise from Argentina materially injure, or threaten material injury to, a U.S. industry. On March 25, 2009, the ITC published its preliminary determination finding that there is a reasonable indication that an industry in the United States is materially injured by reason of imports from Argentina of the subject merchandise. See Ni-Resist Piston Inserts from Argentina and Korea; Determinations, Investigation Nos. 701-TA-460-461 (Preliminary), 74 FR 12898 (March 25, 2009).

Analysis of Comments Received

All issues raised in the case and rebuttal briefs by parties to this investigation are addressed in the Decision Memorandum dated concurrently with, and which is hereby adopted by this notice. Attached to this notice as an Appendix is a list of the issues that parties raised and to which we have responded in the Decision Memorandum. Parties can find a complete discussion of all issues raised in this investigation and the corresponding recommendations in this public memorandum, which is on file in the Department's Central Records Unit. In addition, a complete version of the Decision Memorandum can be accessed directly on the Internet at http://ia.ita.doc.gov/frn/. The paper copy and electronic version of the Decision Memorandum are identical in content.

Suspension of Liquidation

In accordance with section 705(c)(1)(B)(i)(I) of the Tariff Act of 1930, as amended (the Act), we have calculated an individual rate for Clorindo, the only company under investigation. We determine that the total estimated net countervailable subsidy rate is 6.81 percent ad valorem. The All Others rate is 6.81 percent ad valorem, which is the rate calculated for Clorindo.

As a result of the Preliminary Determination and pursuant to section 703(d) of the Act, we instructed the U.S. Customs and Border Protection to suspend liquidation of all entries of Ni-resist piston inserts from Argentina which were entered or withdrawn from warehouse, for consumption on or after July 6, 2009, the date of the publication of the Preliminary Determination in the Federal Register.

We will issue a countervailing duty order under section 706(a) of the Act if the ITC issues a final affirmative injury determination, and will require a cash deposit of estimated countervailing duties for such entries of merchandise in the amounts indicated above. If the ITC determines that material injury, or threat of material injury, does not exist, this proceeding will be terminated and all estimated duties deposited or securities posted as a result of the suspension of liquidation will be refunded or canceled.

ITC Notification

In accordance with section 705(d) of the Act, we will notify the ITC of our determination. In addition, we are making available to the ITC all non-privileged and non-proprietary information related to this investigation. We will allow the ITC access to all privileged and business proprietary information in our files, provided the ITC confirms that it will not disclose such information, either publicly or under an administrative protective order (APO), without the written consent of the Assistant Secretary for Import Administration.

Return or Destruction of Proprietary Information

In the event that the ITC issues a final negative injury determination, this notice will serve as the only reminder to parties subject to an APO of their responsibility concerning the destruction of proprietary information disclosed under APO in accordance with 19 CFR 351.305(a)(3). Timely written notification of the return/destruction of APO materials or conversion to judicial protective order is hereby requested. Failure to comply with the regulations and terms of an APO is a violation which is subject to sanction.

This determination is published pursuant to sections 705(d) and 777(i) of the Act.

Dated: September 14, 2009.
Ronald K. Lorentzen,
Acting Assistant Secretary for Import Administration.

Appendix Issues and Decision Memorandum

List of Comments and Issues in the Decision Memorandum

Comment 1: Tax Relief under the Reintegro

Comment 2:Stamp Tax Exemption

Comment 4:Procedural Guarantees Provided in the WTO SCM Agreement

Comment 5:More Expansive POI

[FR Doc. E9-22493 Filed 9-17-09; 8:45 am]

BILLING CODE 3510-DS-S